DEPARTMENT OF THE INTERIOR

Bureau of Land Management

[LLORB07000.L17110000.AL0000.LXSSH1060000.23X.BLM_OR_FRN_MO4500168638]

Public Meeting for the Steens Mountain Advisory Council, Oregon

AGENCY: Bureau of Land Management, Interior.

ACTION: Notice of public meeting.

SUMMARY: In accordance with the Federal Land Policy and Management Act of 1976 and the Federal Advisory Committee Act of 1972, the U.S. Department of the Interior, Bureau of Land Management's (BLM) Steens Mountain Advisory Council (SMAC) will meet as follows.

DATES: The SMAC will hold an in-person meeting on Thursday, February 23, 2023, from 10:30 a.m. to 4 p.m. at the BLM Burns District Office at 28910 Highway 20 West in Hines, Oregon. Virtual attendance through the Zoom for Government platform will also be available.

ADDRESSES: The final meeting agenda and Zoom link will be published on the SMAC web page at least 10 days in advance at https://on.doi.gov/2PnZRcl.

FOR FURTHER INFORMATION CONTACT: Tara Thissell, Public Affairs Specialist, BLM Burns District Office, 28910 Highway 20 West, Hines, Oregon 97738; telephone: (541) 573-4519; email: tthissell@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The SMAC was established August 14, 2001, pursuant to the Steens Mountain Cooperative Management and Protection Act of 2000 (Pub. L. 106-399). The SMAC provides recommendations to the BLM regarding new and unique approaches to management of the public lands within the bounds of the Steens Mountain Cooperative Management and Protection Area, recommends cooperative programs and incentives for landscape management that meet human needs, and advises the BLM on potential maintenance and improvement of the ecological and economic integrity of the area.

Agenda items for the February 23, 2023, meeting include: recreation and wildland fire 2022 program reviews, information sharing from the Designated Federal Official and Andrews/Steens Field Manager, an update and discussion on the Bridge Creek Area Allotment Management Plan Environmental Impact Statement, and an opportunity for SMAC members to share information from their constituents or present research. Any other matters that may reasonably come before the SMAC may also be included.

A public comment period will be available at 3 p.m. Depending on the number of people wishing to comment and the time available, the amount of time for oral comments may be limited. Written public comments may be sent to the BLM Burns District Office listed in the FOR FURTHER INFORMATION CONTACT section of this notice. All comments received at least 1 week prior to the meeting will be provided to the SMAC prior to the meeting. The meeting may end early if all business items are accomplished ahead of schedule or may be extended if discussions warrant more time. All meetings, including virtual sessions, are open to the public in their entirety.

Please make requests in advance for sign language interpreter services, assistive listening devices, or other reasonable accommodations. We ask that you contact the person listed in the FOR FURTHER INFORMATION CONTACT section of this notice at least 7 business days prior to the meeting to give the Department of the Interior sufficient time to process your request. All reasonable accommodation requests are managed on a case-by-case basis.

Public Disclosure of Comments: Before including your address, phone number, email address, or other personal identifying information in your comments, please be aware that your entire comment—including your personal identifying information—may be made publicly available at any time. While you can ask us in your comment to withhold your personal identifying information from public review, we cannot guarantee that we will be able to do so.

(Authority: 43 CFR 1784.4-2)

Jeffrey Rose,
District Manager.

[FR Doc. 2023-02263 Filed 2-2-23; 8:45 am]

BILLING CODE 4331-24-P